DEPARTMENT OF HOMELAND SECURITY

[CIS No. 2829-25]

USCIS Immigration Fees Required by HR-1 Reconciliation Bill

AGENCY: U.S. Citizenship and Immigration Services, Department of Homeland Security.

ACTION: Notice of immigration fees.

SUMMARY: U.S. Citizenship and Immigration Services (USCIS) is announcing a series of fees to be collected by USCIS. Recently enacted legislation that provided for reconciliation pursuant to Title II of House Concurrent Resolution 14, titled HR-1, establishes specific fees for various immigration-related forms, benefits, statuses, petitions, applications, and requests administered by multiple government agencies. This notice announces the new fees that are administered by USCIS, a component of the U.S. Department of Homeland Security (DHS), to whom those fees apply, when the new fees take effect, instructions on their payment, when and if the fees may be waived, and consequences of the failure to pay. This notice is intended to provide the information needed for the public to comply with the new law.

DATES: Unless specified otherwise in this notice, the fees announced in this notice must be submitted for any immigration benefit requests postmarked on or after July 22, 2025. Any form postmarked on or after August 21, 2025 without the proper filing fee will be rejected.

FOR FURTHER INFORMATION CONTACT: Office of Chief Financial Officer, U.S. Citizenship and Immigration Services, Department of Homeland Security, 5900 Capital Gateway Drive, Camp Springs, MD 20746, telephone (240) 721-3000 (this is not a toll-free number).

SUPPLEMENTARY INFORMATION:

Table of Abbreviations

AAF—Annual Asylum Fee

CPI-U—Consumer Price Index for All Urban Consumers

DHS—Department of Homeland Security

EAD—Employment Authorization Document

FY—Fiscal Year

HR-1—One Big Beautiful Bill Act

IMMVI—Immigrant Military Members and Veterans Initiative

INA—Immigration and Nationality Act

PIP—Parole in Place

SIJ—Special Immigrant Juvenile

TPS—Temporary Protected Status

USCIS—U.S. Citizenship and Immigration Services

I. Background and Authority

A. H.R.1—One Big Beautiful Bill Act

On July 4, 2025, the President signed into law H.R.1—One Big Beautiful Bill Act, Public Law 119-21, 139 Stat. 72 (“HR-1”). HR-1 was a comprehensive legislative package that changed many laws and added new laws that touch many areas of the United States government. Among those changes, the law established several new provisions and fees to the Immigration and Nationality Act (INA). See HR-1, Title X, Subtitle A, Part I, Sections 100001 through 1000018.

The new fees are provided as minimum amounts for Fiscal Year (FY) 2025, authorize the relevant agency to adjust them as determined necessary using rulemaking, and are required to be adjusted annually based on the Consumer Price Index for All Urban Consumers (CPI-U). In most cases, fee waivers or reductions are prohibited for the additional fees under HR-1. The funds collected from these fees are allocated to relevant agencies or the U.S. Treasury. USCIS will reject or deny any immigration benefit requests that are submitted without all of the fees required, including the new fees announced in this notice, as provided in 8 CFR 103.2(a)(7)(ii)(D).

B. DHS Fee Setting Authority, USCIS Fees, and HR-1 Fees

INA sec. 286(m), 8 U.S.C. 1356(m), authorizes the Secretary of Homeland Security to set fees for adjudication by regulation “at a level that will ensure recovery of the full costs of providing all such services, including the costs of similar services provided without charge to asylum applicants or other immigrants” and “that will recover any additional costs associated with the administration of the fees collected.” DHS codified new fees and related regulations as authorized by INA sec. 286(m) on January 31, 2024, effective April 1, 2024. U.S. Citizenship and Immigration Services Fee Schedule and Changes to Certain Other Immigration Benefit Request Requirements, Final Rule, 89 FR 6194 (Jan. 31, 2024) (USCIS Fee Rule).

Unless otherwise described in this notice regarding a specific fee, the new fees in HR-1 are required in addition to any other fee authorized by law and by the heads of relevant departments.¹ That means that the fees in HR-1 do not supersede or replace those promulgated by the USCIS Fee Rule, rather they will be charged “in addition” to current fees.² USCIS fees are generally codified in 8 CFR part 106 and any other fees authorized by law as referred to in this notice refers to part 106 unless otherwise noted.

¹ See Sec. 100002(a) (“In addition to any other fee authorized by law, the Secretary of Homeland Security or the Attorney General, as applicable, shall require the payment of a fee, equal to the amount specified in this section, by any alien who files an application for asylum under section 208 (8 U.S.C. 1158) at the time such application is filed.”); see also Sec. 100003(a)(1) (initial application for employment authorization under section 208(d)(2)); Sec. 100003(b)(1) (initial application for employment authorization filed by any alien paroled into the United States); Sec. 100003(c)(1) (initial application for employment authorization under section 244(a)(1)(B)); Sec. 100005(a) (any alien, parent, or legal guardian of an alien applying for special immigrant juvenile status under section 101(a)(27)(J)); Sec. 100009(a) (for each calendar year that an alien's asylum application remains pending); Sec. 100010(a) (any parolee who seeks a renewal or extension of employment authorization based on a grant of parole); Sec. 100011(a) (any alien who has applied for asylum for each renewal or extension of employment authorization); Sec. 100012(a) (renewal or extension of employment authorization based on a grant of temporary protected status).

² One exception is at section 100006 of Title X governing the Temporary Protected Status application fee. This provision replaces the $50 registration fee amount specified at INA sec. 244(c)(1)(B), 8 U.S.C. 1254a(c)(1)(B) with the new registration fee amount of $500. See 8 CFR 106.2(a)(50)(i).

USCIS acknowledges that the portion of the HR-1 fees that USCIS retains will be in addition to the revenue it receives from the fees that DHS determined in the USCIS Fee Rule were needed to recover the full costs of operating USCIS. Regardless, the HR-1 text “in addition to any other fee authorized by law” is clear. Furthermore, to interpret HR-1 as providing for replacement of the USCIS fees DHS codified in 8 CFR part 106 would result in USCIS being unable to fund its operations. If HR-1 fees replaced the fees that USCIS retains to recover its operating costs with new fees that must partly or wholly go to the Treasury, USCIS would be required to maintain our current production and service levels with a large reduction in revenue. USCIS will soon conduct a total cost recovery fee study consistent with the CFO Act, 31 U.S.C. 901-03 (requiring each agency's Chief Financial Officer (CFO) to review, on a biennial basis, the fees imposed by the agency for services it provides, and to recommend changes to the agency's fees). However, USCIS has no basis to believe that Congress intended HR-1 to result in USCIS not being fully funded until promulgation of the next USCIS fee rule.

II. New Immigration Fees

This notice announces certain new fees promulgated by HR-1, when collection of the fees will begin and, when necessary, how the fees are to be paid.³

³ As explained later in this notice, USCIS does not list all the new fees required by HR-1 in this notice because (1) the law contains restrictions on collection of the fees that require additional study and planning before they can be implemented, or (2) the fee is administered by another DHS component or federal agency.

The new immigration fees imposed by HR-1 are in addition to any other fees already authorized by law and regulations, as shown in Table 1.

The DHS fee and HR-1 fees must be submitted separately. If the requestor is eligible for a fee waiver for the DHS fee, he or she may submit Form I-912, Request for Fee Waiver, or a written fee waiver request, along with HR-1 fee as listed in Table 1.⁴ The annual pending asylum application fee must be submitted online.

⁴ For information on how to submit fees, see USCIS, Filing Fees, https://www.uscis.gov/forms/filing-fees (Last Reviewed/Updated: May 28, 2025). USCIS will update the I-912 as appreciate to account for the changes in HR-1.

A. Summary of New Fees

Table 1—USCIS Immigration Benefit Request With Additional Fees From HR-1
Benefit category | Form | Current filing fee ⁵ | Immigration fee type | HR-1 FY 2025 fee | Combined fees
Asylum | I-589 ⁶ | $0 | Asylum Fee (Initial fee for aliens filing an application for asylum) | $100 No Fee Waiver Available. | $100
| I-589 (Pending) | N/A | Annual Pending Asylum Application Fee | $100 (annual for every calendar year that the asylum application is pending); payable online only No Fee Waiver Available. | 100
EADs | I-765 ⁷—Initial for (c)(8) Asylum Applicant | $0 | Initial Asylum Applicant EAD | $550 No Fee Waiver Available. | 550
| I-765—Initial (c)(8) Applying under Special American Baptist Churches v. Thornburgh ⁸ (ABC) Procedures | Paper Filing: $520 Fee Waiver Available. Online Filing: $470 Fee Waiver Available. | Initial Asylum Applicant EAD Initial Asylum Applicant EAD | $550 No Fee waiver Available. $550 No Fee waiver Available. | 1,070 1,020
| I-765—Renewal for (c)(8) Asylum Applicant | Paper Filing: $520 Fee Waiver Available. | Renewal or Extension of Asylum Applicant EAD | $275 No Fee Waiver Available. | 795
|  | Online Filing: $470 Fee Waiver Available. | Renewal or Extension of Asylum Applicant EAD | $275 No Fee Waiver Available. | 745
| I-765—Initial for (a)(4) Paroled Refugee | $0 | Initial Parole EAD—Valid for 1 year | $550 No Fee Waiver Available. | 550
| I-765—Initial (c)(11) for 212(d)(5)(A) Parole | Paper Filing: $520 Fee Waiver Available. | Initial Parole EAD—Valid for 1 year | $550 No Fee Waiver Available. | 1,070
|  | Online Filing: $470 Fee Waiver Available. | Initial Parole EAD—Valid for 1 year | $550 No Fee Waiver Available. | 1,020
|  | IMMVI current or former service members, special processes for paroled Ukrainians: $0 | Initial Parole EAD—Valid for 1 year | $550 No Fee Waiver Available. | 550
| I-765—Initial (c)(34) Paroled Spouse of (b)(37) Entrepreneur | Paper Filing: $520 Fee Waiver Available. | Initial Parole EAD—Valid for 1 year | $550 No Fee Waiver Available. | 1,070
| I-765—Renewal (a)(4) Paroled Refugee | $0 | Initial Parole EAD—Valid for 1 year | $275 No Fee Waiver Available. | 275
| I-765—(c)(11) Renewal for 212(d)(5)(A) Parole | Paper Filing: $520 Fee Waiver Available. | Renewal or Extension of Parole EAD—Valid for 1 year | $275 No Fee Waiver Available. | 795
|  | Online Filing: $470 Fee Waiver Available. | Renewal or Extension of Parole EAD—Valid for 1 year | $275 No Fee Waiver Available. | 745
|  | IMMVI ⁹ current or former U.S. armed forces: $0 | Renewal or Extension of Parole EAD—Valid for 1 year | $275 No Fee Waiver Available. | 275
| I-765—Renewal (c)(34) Paroled spouse of (b)(37) Entrepreneur | Paper Filing: $520 Fee Waiver Available. | Renewal or Extension of Parole EAD—Valid for 1 year | $275 No Fee Waiver Available. | 795
| I-765—Initial (a)(12) or (c)(19) TPS | Paper Filing: $520 Fee Waiver Available. | Initial TPS EAD—Valid for 1 year or the duration of the TPS designation whichever is shorter | $550 No Fee Waiver Available. | 1,070
|  | Online Filing: $470 Fee Waiver Available. | Initial TPS EAD—Valid for 1 year or the duration of the TPS designation whichever is shorter | $550 No Fee Waiver Available. | 1,020
| I-765—Renewal (a)(12) or (c)(19) TPS | Paper Filing: $520 Fee Waiver Available. | Renewal or Extension of TPS EAD—Valid for 1 year | $275 No Fee Waiver Available. | 795
|  | Online Filing: $470 Fee Waiver Available. | Renewal or Extension of TPS EAD—Valid for 1 year | $275 No Fee Waiver Available. | 745
| I-131 ¹⁰—Employment Authorization Upon Issuance of New Period of Parole | Paper Filing: $1,150 Fee Waiver Available. Online Filing: $1,050 Fee Waiver Available. | EAD upon new period of Parole (Re-parole) EAD upon new period of Parole (Re-parole) | $275 ¹¹ No Fee Waiver Available. $275 No Fee Waiver Available. | 1,425 1,325
|  | Military PIP ¹² for family of service members: $520 Fee Waiver Available. | EAD upon new period of Parole (Re-parole) | $275 No Fee Waiver Available. | 795
|  | IMMVI, FRTF, ¹³ Military PIP for current or former service members: $0 | EAD upon new period of Parole (Re-parole) | $275 No Fee Waiver Available. | 275
TPS | I-821 ¹⁴—Initial TPS Registration | $50 + $30 (biometrics fee) Fee Waivable.¹⁵ | TPS Fee | $500 No Fee Waiver Available. | 530
SIJs | I-360 ¹⁶ | $0 | Special Immigrant Juvenile Fee | $250 No Fee Waiver Available.¹⁷ | 250

B. Description of the New Fees

⁵ For additional information on fees, including fee waivers, see Form G-1055, Fee Schedule, https://www.uscis.gov/g-1055.

⁶ Form I-589, Application for Asylum and for Withholding of Removal.

⁷ Form I-765, Application for Employment Authorization.

⁸ See American Baptist Churches v. Thornburgh, 760 F. Supp. 796 (N.D. Cal. 1991). See also, USCIS, American Baptist Churches v. Thornburgh (ABC) Settlement Agreement, https://www.uscis.gov/humanitarian/refugees-and-asylum/asylum/american-baptist-churches-v-thornburgh-abc-settlement-agreement (last visited July 9, 2025).

⁹ Parole for Immigrant Military Members and Veterans Initiative (IMMVI).

¹⁰ Form I-131, Application for Travel Documents, Parole Documents, and Arrival/Departure Records. Part 9 of Form I-131 currently permits certain aliens to request an EAD upon approval of a new period of parole (re-parole).

¹¹ As explained below, USCIS will temporarily charge the $275 for requests for initial EADs and renewal or extension EADs.

¹² Military Parole in Place (Military PIP).

¹³ Parole for members of the Family Reunification Task Force (FRFT) settlement agreement.

¹⁴ Form I-821, Application for Temporary Protected Status.

¹⁵ HR-1 increased the base application fee for an initial Form I-821 from $50 to $500, which is no longer eligible for a fee waiver. See Sec. 100006. However, the $30 biometrics fee remains eligible for fee waiver. See 8 CFR 106.2(a)(50)(iii), 8 CFR 106.3(a)(3)(i)(E).

¹⁶ Form I-360, Petition for Amerasian, Widow(er), or Special Immigrant.

¹⁷ Section II.D. of this notice contains an explanation of fee waivers as they apply to HR-1 fees. Sec. 100005 establishing the SIJ fee does not include an explicit “no fee waiver” provision. However, USCIS' general authority to grant waivers is based on the discretionary language of INA 286(m), 8 U.S.C. 1356(m), which states that “fees for providing adjudication and naturalization services may be set at a level that will ensure recovery of the full costs of providing all such services, including the costs of similar services provided without charge to asylum applicants or other immigrants.” In contrast, the language of Sec. 100005(a) is mandatory (“the Secretary of Homeland Security shall require the payment of a fee”). Therefore, no fee waiver is available.

1. Asylum Fee

HR-1 created a new fee for any alien who files an application for asylum under section 208 (8 U.S.C. 1158) at the time such application is filed. Sec. 100002(a). The asylum fee cannot be waived or reduced. Id.(e). The initial asylum fee amount is set at $100 for FY 2025. Id. Because Sec. 100002 imposes this asylum application fee “at the time such application is filed,” the fee applies to asylum applications filed on or after the date of publication of this Notice. Any Form I-589, Application for Asylum and for Withholding of Removal, submitted to USCIS must include the new fee or it will be rejected as provided in the DATES section of this notice.

2. Employment Authorization Document Fees

HR-1 created new EAD fees in addition to other existing fees for EADs. Sec. 100003. The fees apply to specific groups of applicants and vary by initial, renewal, or extension for those groups.

a. Asylum EAD

HR-1 created a fee for individuals filing an initial application for employment authorization based on a pending asylum application under section 208(d)(2) (8 U.S.C. 1158(d)(2)), which is $550 for FY 2025. Sec. 100003(a). The fee is due when the initial employment authorization application is filed. Id. The asylum EAD fee cannot be waived or reduced. Id. (a)(5).

In addition to the initial EAD application fee, HR-1 created an additional fee for renewals and extensions of employment authorization for asylum applicants. Sec. 100011. The fee is $275 for FY 2025. HR-1 renewal or extension fee cannot be waived or reduced, though USCIS may waive the pre-existing regulatory fee. See 8 CFR 106.2(a)(44) and 8 CFR 106.3(a)(3)(ii)(F).

b. Parolee EAD Fees

HR-1 requires a fee “by any alien paroled into the United States for any initial application for employment authorization at the time such initial application is filed.” Sec. 100003(b)(1). This additional fee is $550 for FY 2025. Each initial employment authorization shall be valid for a period of 1 year or for the duration of the individual's parole, whichever is shorter. Id. The fee is due when the initial employment authorization application is filed. Id. The HR-1 parole EAD fee cannot be waived or reduced. Sec. 100003(b)(5). However, USCIS may waive the pre-existing regulatory fee. See 8 CFR 106.2(a)(44) and 8 CFR 106.3(a)(3)(ii)(F).

In addition to the initial EAD application fee, HR-1 created an additional fee for renewals and extensions of employment authorization “based on a grant of parole.” Sec. 100010(a). The fee that is effective for FY 2025 is $275. The HR-1 fee cannot be waived or reduced, though USCIS may waive the pre-existing regulatory fee. See 8 CFR 106.2(a)(44) and 8 CFR 106.3(a)(3)(ii)(F).

Sec. 100003(b)(1) states that these fees apply to “any alien paroled” into the United States. This language, on its face, would seem to encompass all those who were paroled into the United States at any point in time, regardless of the category under which they are seeking to qualify for employment authorization, rather than only those who are applying for employment authorization based on being “an alien paroled into the United States . . . pursuant to section 212(d)(5) of the Act”. See 8 CFR 274a.12(c)(11). Such a reading does not align with the remainder of the statutory text which sets a validity period for the employment authorization of 1 year or the “duration of the alien's parole, whichever is shorter”, sec. 100003(b)(1), and which states that the renewal or extension is “based on a grant of parole”, sec. 100010(a). In addition, applying this fee to any alien who was paroled into the United States rather than only those seeking to qualify for employment authorization on that basis would create the perverse effect of applying the fee to asylum applicants who were initially paroled into the United States, even though asylum applicants already have a $550 initial employment authorization application fee designated in the prior paragraph, sec. 100003(a)(1), and even if they were not granted parole for any significant duration. In order to give effect to the parolee employment authorization provisions in the context of the whole statutory text, the fees in sections 100003(b) and 100010 must be read to apply to those paroled into the United States pursuant to INA 212(d)(5)(A) and who are seeking authorization for employment on that basis under category (c)(11).

If an alien requests an EAD under category (c)(11), based upon approval of a new period of parole (re-parole) by filing Form I-131, Application for Travel Documents, Parole Documents, and Arrival/Departure Records, USCIS will initially impose the lower $275 HR-1 fee. USCIS recognizes that a parolee may have been granted parole, opted to not request an EAD for that initial period of parole, and is now requesting an initial EAD for an additional period of parole being requested. However, the current Form I-131 and Form I-765 do not distinguish initial EAD requests from renewal or extension EAD requests. USCIS will presume that an EAD requested for re-parole, renewal, or extension of parole will be for a renewal EAD regardless of whether the alien has no current or previous EAD and we will only require a $275 fee under HR-1.

c. Temporary Protected Status (TPS) EAD Fees

The additional fee for an alien who files an initial EAD application under TPS is $550. Sec. 100003(c). Each initial employment authorization for TPS registrants who are subject to this fee will be valid for a period of 1 year or for the duration of the alien's TPS, whichever is shorter. Id. The HR-1 TPS EAD fee cannot be waived or reduced. Sec. 100003(c)(5). However, USCIS may continue to waive the preexisting regulatory TPS EAD fee. See 8 CFR 106.2(a)(44) and 8 CFR 106.3(a)(3)(ii)(F).

In addition to the initial EAD application fee, HR-1 created an additional fee for renewals and extensions of employment authorization for aliens granted TPS. Sec. 100012. The renewal or extension period for employment authorization shall be approved for a period of no more than 1 year, or for the duration of the designation of TPS, whichever is shorter. Sec. 100012(a). The FY 2025 fee is $275. The HR-1 renewal or extension fee cannot be waived or reduced. Sec. 100012(d). However, USCIS may continue to waive the preexisting regulatory TPS EAD fee. See 8 CFR 106.2(a)(44) and 8 CFR 106.3(a)(3)(ii)(F).

3. Temporary Protected Status Fee

HR-1 amended Section 244(c)(1)(B) of the INA (8 U.S.C. 1254a(c)(1)(B)) to raise the maximum cost to register for temporary protected status using Form I-821, Application for Temporary Protected Status, from $50 to $500. Sec 100006. Because DHS has set the fee for first-time Form I-821 applicants as “$50 or the maximum permitted by section 244(c)(1)(B) of the Act” in 8 CFR 106.2(a)(50)(i),¹⁸ the resulting fee is $500, not including the $30 biometric services fee. See 8 CFR 106.2(a)(50)(iii). The HR-1 TPS fee cannot be waived or reduced. Sec. 100006. Aliens filing Form I-821 may continue to request a waiver of the biometrics fee. See 8 CFR 106.2(a)(50)(iii), 8 CFR 106.3(a)(3)(i)(E).

¹⁸ By regulation at 8 CFR 106.2(a)(50)(i), DHS has exercised its discretionary authority to impose the maximum fee permitted by section 244(c)(1)(B).

4. Special Immigrant Juvenile Fee

HR-1 created a new fee for any alien who files a Form I-360, Petition for Amerasian, Widow(er) or Special Immigrant for Special Immigrant Juvenile (SIJ) status under section 101(a)(27)(J), 8 U.S.C. 1101(a)(27)(J). Sec. 100005. The FY 2025 HR-1 fee is $250. The language of HR-1 prohibits fee waivers or exemptions for this fee.¹⁹ There is no separate authority permitting fee waivers for Form I-360. Cf. 8 CFR 106.3(a)(3).

¹⁹ Sec. 100005 states that “the Secretary of Homeland Security shall require the payment of a fee, equal to the amount specified in this section . . . .” USCIS authority to waive fees in its fee schedule rests in the language of 8 U.S.C. 1356(m), which grants the Secretary of Homeland Security discretion in setting fees. The new SIJ fee, however, is mandatory.

5. Annual Asylum Fee (AAF)

HR-1 requires all aliens with a pending asylum application to pay an annual fee for each calendar year that the alien's application remains pending, in addition to any other fee. Sec. 100009. The first AAF is $100 for FY 2025. Sec. 100009(b). DHS interprets the term “remains pending” to mean any application filed with USCIS or DOJ and that remains pending with any federal government agency, court, or entity with jurisdiction over asylum claims as intended by Sec. 100009(b) of HR-1. This notice provides notice and information about how USCIS will administer the fee required from asylum applicants with applications pending more than one year with USCIS.

To effectuate the FY 2025 fee, DHS will require that any alien who filed a Form I-589, Application for Asylum and for Withholding of Removal, with USCIS before or on the beginning of fiscal year 2025, October 1, 2024, and whose application is still pending with USCIS at the end of fiscal year 2025, on September 30, 2025, must pay the FY 2025 amount specified by statute.²⁰ Such aliens must also pay the AAF as of September 30 in each subsequent year that the application remains pending with USCIS. For applications pending for more than a year prior to October 1, 2024, DHS has determined that HR-1 does not require any additional AAF for years that the application was pending prior to FY 2025. Any alien who filed or files a Form I-589 after October 1, 2024, that remains pending with USCIS for 365 days must pay the AAF as of the one-year anniversary of his or her filing date and each year thereafter that the application remains pending on such day of the calendar year.

²⁰ USCIS collects certain fees on behalf of EOIR. Administrative processes such as whether USCIS will collect the AAF or any other HR-1 fees on behalf of EOIR are beyond the scope of this notice.

DHS determined that the fee applies to a Form I-589 pending as of October 1, 2024 or submitted thereafter because language in HR-1 is clear and unambiguous that the AAF applies during fiscal year 2025, which runs from October 1, 2024 through September 30, 2025, and to each fiscal year thereafter. Subsection (b)(1) of section 100009(b) provides for an initial amount that “shall” be applied for fiscal year (FY) 2025. Subsection (a) applies a fee for “each calendar year that an alien's application for asylum remains pending.” Because HR-1 states that the AAF will be applicable in FY 2025, it necessarily applies the provision to the start of FY 2025. To apply the law only to applications filed after the date of enactment in July 2025 or later would result in no fee collections in FY 2025 because no such application would be pending for a calendar year (i.e. twelve months) during that time frame. Therefore, section 100009(b) requires applying the fee to applications pending with USCIS before enactment of HR-1. As such, Section 100009 contains a clear expression of intent to apply the AAF to applications filed on or before October 1, 2024 that remain pending for the entirety of fiscal year 2025. DHS is not retroactively applying the AAF to applications pending for one-year periods during fiscal years prior to 2025. Landgraf v. USI Film Prods., 511 U.S. 244, 264 (1994). Requiring the 2025 AAF with respect to pending asylum applications filed as of October 1, 2024, the first day of FY 2025, is not impermissibly retroactive because it merely applies changes in procedural rules required by statute. Id. at 275; see also INA 208(d)(3) (2024) (listing “fees” under the “asylum procedure” subsection and providing that the government may impose fees for the consideration of an application for asylum).

For the first time the AAF is due under this notice, asylum applicants need not monitor the time their application has been pending and if the AAF applies to them. USCIS will provide personal, individual notice to each asylum applicant with an application pending with USCIS from whom the AAF is required, the amount of the fee, when the fee must be paid, how the fee must be paid, and the consequences of failure to pay. USCIS will require that AAF be paid using an online fee payment process. USCIS will provide guidance for future years' AAF payments in subsequent issuances.

C. Consumer Price Index for All Urban Consumers (CPI-U) Updates

In FY 2026 and each subsequent fiscal year, DHS will adjust the fee by inflation by using the Consumer Price Index for all Urban Consumers (CPI-U) for the month of July. See secs. 100002(c), 10003(a)(3), 100003(b)(3) 100003(c)(3), 10004(d), 10005(c), 10006, 10009(b)(2), 100010(b)(2), 100012(b)(2). The Department of Homeland Security (DHS) will round the adjusted fee to the next lowest multiple of $10, secs. 100002(c), 100003(a)(3), 100003(b)(3) 100003(c)(3), 100004(d), 100005(c), 100006, 100010(b)(2), 100012(b)(2), or the nearest dollar. Sec. 100009(b)(2). USCIS will deposit and retain a portion of the revenue from some of these fees in the Immigration Examinations Fee Account (IEFA).²¹ The remaining revenue will be deposited with the general fund of the Treasury.²²

²¹ Secs. 100002 (50% to USCIS), 100003 (25% to USCIS), 100010 (25% to USCIS), 100011 (25% to USCIS), 100012 (25% to USCIS).

²² Secs. 100002 (50% to the Treasury), 100003 (75% to Treasury), 100010 (75% to Treasury), 100011(75% to Treasury), 100012 (75% to Treasury); Secs. 100004-06, 100009 (100% to Treasury).

D. Fee Waivers and Exemptions

Fees, fee exemptions, and fee waivers ²³ in 8 CFR part 106 have not changed. Fees imposed by HR-1 cannot be waived or reduced.²⁴ Therefore the fees required by HR-1 for an immigration benefit request must be paid with each request submitted. However, a request may be submitted for one of the benefits covered by HR-1 and if the benefit is eligible for a DHS fee waiver, may still be accompanied by a USCIS Form I-912, Request for a Fee Waiver, under 8 CFR 106.3(a) in lieu of the fee required by 8 CFR 106.2(a). If the fee waiver is approved, the application will be accepted without the USCIS regulatory fee. However, even if a waiver under 8 CFR 106.3(a) of the fee required by 8 CFR 106.2(a) is requested, and even if the applicant is eligible and approved for the waiver, the fee required by HR-1 and announced in this notice must be paid for each request.

²³ See Form G-1055, Fee Schedule, https://www.uscis.gov/g-1055 (last reviewed/updated July 11, 2025).

²⁴ See Sec. 100002(e) (asylum fee); Sec. 100003 (initial employment authorization document fees); Sec. 100006 (temporary protected status fee); Sec. 100009(d) (annual asylum fee); Sec. 100010(d) (fees for renewal and extension of employment authorization for parolees); Sec. 100011(d) (fees for renewal or extension of employment authorization for asylum applicants); Sec. 100012(d) (fees for renewal and extension of employment authorization for temporary protected status).

In addition, INA section 245(l)(7), 8 U.S.C. 1255(l)(7),²⁵ requires DHS to allow a request for waiver of the fees required for certain immigration benefit requests. However, where the new specific language in HR-1 states that the fees “shall not be waived or reduced” DHS interprets HR-1 as superseding section 245(l)(7), 1255(l)(7), for purposes of the new fees imposed by HR-1. Although a waiver of the USCIS fee under 8 CFR 106.3(a)(3)(iii) of the fee required by 8 CFR 106.2(a) may be requested, USCIS will not waive such a fee required by HR-1 and a request for such may not be submitted.

²⁵ “The Secretary of Homeland Security shall permit aliens to apply for a waiver of any fees associated with filing an application for relief through final adjudication of the adjustment of status for a VAWA self-petitioner and for relief under sections 1101(a)(15)(T), 1101(a)(15)(U), 1105a, 1229b(b)(2), and 1254a(a)(3) of this title (as in effect on March 31, 1997).”

E. HR-1 Fees Not in the Notice

This notice does not announce all of the fees required or authorized by HR-1. DHS will announce the collection of any fees not covered in this notice in a future action. USCIS is not announcing certain fees required by HR-1 in this notice as follows:

• The IMMIGRATION PAROLE FEE required by section 100004 (parole fee) of HR-1. HR-1 contains multiple exceptions to the requirement for the parole fee and DHS must interpret how the exceptions should be applied. DHS will announce the parole fee in a future publication.

• The VISA INTEGRITY FEE required by section 100007 of HR-1 for any alien issued a nonimmigrant visa at the time of such issuance. The VISA INTEGRITY FEE requires cross-agency coordination before implementing; the fee will be implemented in a future publication.

• The FORM I-94 FEE required by section 100008 of HR-1 is required from any alien who submits an application for a Form I-94 Arrival/Departure Record. DHS will be issuing guidance on the Form I-94 fee requirements in a future publication.

• The ELECTRONIC SYSTEM FOR TRAVEL AUTHORIZATION (ESTA) fee required by section 100014 of HR-1. These are not USCIS administered fees.

• The ELECTRONIC VISA UPDATE SYSTEM FEE required by section 100015 (Visa update fee) and the FEE FOR ALIENS ORDERED REMOVED IN ABSENTIA (in absentia fee) required by section 100016 are not USCIS administered fees.

DHS will continue to work toward implementation of the remaining fees applicable to USCIS, specifically: (1) fees related to Form I-131, Application for Travel Documents, Parole Documents, and Arrival/Departure Records, and (2) Form I-102, Application for Replacement/Initial Nonimmigrant Arrival-Departure Document.

III. Effective Date and Implementation

DHS recognizes that HR-1 became effective upon Presidential signature on July 4, 2025, and we are working to implement the statutory mandates as soon as practicable. This notice explains how we will collect the required fees. While that work is ongoing, and in an effort to implement the plain terms of HR-1 as quickly as possible, USCIS will begin collecting the filing fees for fiscal year 2025 for any immigration benefit requests postmarked on or after July 22, 2025. In addition, DHS has balanced the impact on the public of imposing HR-1 fees and the timeliness of complying with the statutory mandates. Because of the time needed by DHS and USCIS to issue guidance on and operationalize the required fees, and for the public to adapt their immigration benefit requests that are in process to the changes, requests postmarked on or after August 21, 2025 without the proper filing fee will be rejected. DHS has determined that the policy required by this Notice is the most equitable path forward in order to effectuate HR-1 as expeditiously as practicable. The HR-1 fees are required by law, but for additional clarity, DHS may codify these fees in 8 CFR part 106 in a future rule.

IV. Paperwork Reduction Act

This notice is not subject to the Paperwork Reduction Act, 44 U.S.C. 3501-3521 (PRA). The PRA does not preclude the imposition of a penalty on an entity for failing to comply with a collection of information that is imposed on the entity by statute. See 5 CFR 1320.6(e).

Angelica Alfonso-Royals,
Acting Director, United States Citizenship and Immigration Services.

[FR Doc. 2025-13738 Filed 7-18-25; 4:15 pm]

BILLING CODE 9111-97-P